DEPARTMENT OF ENERGY

Federal Energy Regulatory Commission

[Docket No. RM15-14-000]

Revised Critical Infrastructure Protection; Reliability Standards; Notice of Techinical Conference

Take notice that the Federal Energy Regulatory Commission (Commission) will hold a Commission staff-led technical conference on Critical Infrastructure Protection Supply Chain Risk Management issues identified in the Notice of Proposed Rulemaking (NOPR) in the above-captioned docket on January 28, 2016. The conference will begin at 9:00 a.m. and end at approximately 5:00 p.m. (Eastern Time). The conference will be held at the Federal Energy Regulatory Commission, 888 First Street NE., Washington, DC 20426.

The technical conference shall facilitate a structured dialogue on supply chain risk management issues identified by the Commission in the Revised Critical Infrastructure Protection (CIP) Standards NOPR. Technical Conference panelists may be asked to address: (1) The NOPR proposal to direct that NERC develop a Reliability Standard to address supply chain risk management; (2) the anticipated features of, and requirements that should be included in, such a standard; and (3) a reasonable timeframe for development of a standard. The technical conference will be led by Commission staff, with prepared remarks to be presented by invited panelists, which must be submitted to the Commission in advance of the conference. A subsequent notice providing an agenda and details on the topics for discussion will be issued in advance of the conference. Commissioners may attend and participate.

There is no fee for attendance. However, members of the public are encouraged to preregister online at: https://www.ferc.gov/whats-new/registration/01-28-16-form.asp.

Those wishing to participate in panel discussions should submit nominations no later than close of business on November 20, 2015 online at: https://www.ferc.gov/whats-new/registration/01-28-16-speaker-form.asp.

There will be no webcast of this event. However, it will be transcribed. Transcripts of the conference will be immediately available for a fee from Ace-Federal Reporters, Inc. (202-347-3700).

Commission conferences are accessible under section 508 of the Rehabilitation Act of 1973. For accessibility accommodations please send an email to accessibility@ferc.gov or call toll free (866) 208-3372 (voice) or (202) 502-8659 (TTY), or send a fax to (202) 208-2106 with the requested accommodations.

For more information about the technical conference, please contact: Sarah McKinley, Office of External Affairs, 202-502-8368, sarah.mckinley@ferc.gov.

Dated: October 28, 2015.
Kimberly D. Bose,
Secretary.

[FR Doc. 2015-28091 Filed 11-3-15; 8:45 am]

BILLING CODE 6717-01-P